DEPARTMENT OF AGRICULTURE

Agricultural Marketing Service

7 CFR Part 205

[Doc. No. AMS-NOP-19-0106; NOP-19-03]

RIN 0581-AD98

National Organic Program; National List of Allowed and Prohibited Substances (2022 Sunset); Correction

AGENCY: Agricultural Marketing Service, USDA.

ACTION: Correcting amendment.

SUMMARY: On February 28, 2022, the Agricultural Marketing Service (AMS) published a rule removing sixteen substances from the National List of Allowed and Prohibited Substances (National List). That document accidentally omitted nonorganic whey protein concentrate from the amendatory instructions. This document corrects the amendatory language, removing nonorganic whey protein concentrate from the National List, as intended in the previous document.

DATES:

Effective: May 25, 2023.

Compliance: Use of nonorganic whey protein concentrate in organic products is prohibited after March 15, 2024.

FOR FURTHER INFORMATION CONTACT: Jared Clark, Standards Division, National Organic Program. Telephone: (202) 720-3252. Email: jared.clark@usda.gov.

SUPPLEMENTARY INFORMATION: A final rule published in the Federal Register on February 28, 2022 (87 FR 10930) removed substances from the National List following the procedures detailed in the Organic Foods Production Act of 1990 (OFPA) (7 U.S.C. 6501-6524). Removing these substances implements recommendations from the National Organic Standards Board and effectively prohibits their use in organic production.

One change discussed in the final rule was removing nonorganic whey protein concentrate from the National List. While the rule discussed this change and the justification, the rule's instructions for changing the regulation did not include the removal. This document corrects this by removing the entry for whey protein concentrate at 7 CFR 205.606(x). As discussed in the final rule, use of nonorganic whey protein concentrate in organic products is prohibited after March 15, 2024.

List of Subjects in 7 CFR Part 205

Administrative practice and procedure, Agricultural commodities, Agriculture, Animals, Archives and records, Fees, Imports, Labeling, Organically produced products, Plants, Reporting and recordkeeping requirements, Seals and insignia, Soil conservation.

For the reasons set forth in the preamble, the Agricultural Marketing Service amends 7 CFR part 205 as follows:

PART 205—NATIONAL ORGANIC PROGRAM

1. The authority citation for 7 CFR part 205 continues to read as follows:

Authority: 7 U.S.C. 6501-6524.

§ 205.606 [Amended]

2. Amend § 205.606 by removing paragraph (x).

Erin Morris,
Associate Administrator, Agricultural Marketing Service.

[FR Doc. 2023-11149 Filed 5-24-23; 8:45 am]

BILLING CODE P